DEPARTMENT OF AGRICULTURE

Food Safety and Inspection Service

9 CFR Part 430

[Docket No. 03-029N]

Listeria Monocytogenes Workshops for Small and Very Small Plants

AGENCY: Food Safety and Inspection Service, USDA.

ACTION: Notice of workshops.

SUMMARY: The Food Safety and Inspection Service (FSIS) is announcing that it will hold five workshops from September through October, 2003, to discuss the upcoming implementation of the interim final rule, “Control of Listeria monocytogenes in Ready-to-Eat Meat and Poultry Products,” (68 FR 34208), which is effective on October 6, 2003. The provisions of the rule require official establishments that produce certain ready-to-eat (RTE) meat and poultry products to prevent product adulteration by the pathogenic environmental contaminant Listeria monocytogenes (L. monocytogenes).

The focus of the upcoming workshops will be on how small and very small plants can comply with the new regulations. Key elements of the implementation of the final rule will be addressed, and there will be an opportunity to ask questions and seek additional information. FSIS has held similar workshops in the past for small and very small plants as a means of helping such plants, which may have fewer resources than large plants, to comply with FSIS requirements.

DATES: The workshops will be held on September 13, 20, and October 4, 2003.

ADDRESSES: On September 13, workshops will be held in Raleigh, North Carolina and Bridgeport, Connecticut; on September 20, a workshop will be held in Kansas City, Kansas; and on October 4, workshops will be held in Albuquerque, New Mexico and Oakland, California. (Additional information will be provided at a later date.)

FOR FURTHER INFORMATION CONTACT: Pre-registration for the workshops is suggested. To register, please contact Ms. Sheila Johnson of the FSIS Strategic Initiatives, Partnership and Outreach Staff at (202) 690-6498, fax: (202) 690-6500, or e-mail: Sheila.Johnson@fsis.usda.gov. For technical information, please contact Michaelle Fisher at (401) 221-7400, or email: michaelle.fisher@fsis.usda.gov. If a sign language interpreter or other special accommodations are required, please contact Ms. Sheila Johnson, no later than September 5.

SUPPLEMENTARY INFORMATION: On June 6, 2003, FSIS published an interim final rule, “Control of Listeria monocytogenes in Ready-to-Eat Meat and Poultry Products,” (68 FR 34208), which will become effective October 6, 2003. The rule establishes regulations that require official establishments that produce RTE meat and poultry products to prevent product adulteration by the pathogenic environmental contaminant L. monocytogenes. Under the new regulations, all establishments that produce RTE meat and poultry products that are exposed to the environment after lethality treatments and that support the growth of L. monocytogenes are to have controls that prevent product adulteration by L. monocytogenes in their hazard analysis and critical control point (HACCP) plans, in their sanitation standard operating procedures, or in prerequisite programs. Establishments are also required to maintain and share with FSIS data and information relevant to their controls for L. monocytogenes. Additionally, the new regulations permit an establishment to make claims on the labels of the RTE products regarding the processes used to eliminate or reduce L. monocytogenes or suppress or limit its growth in the products.

The workshops are designed to provide an overview of the final rule to owners and managers of small and very small Federal and State establishments. In addition, the workshops will give all stakeholders a more in-depth understanding of the three compliance alternatives, the sampling provisions, recordkeeping requirements, the use of labeling claims, how to comply with the validation provisions of the regulations, and how to prepare supporting documentation for their hazard analyses. The meeting will also provide the opportunity to discuss additional ways of ensuring that small and very small plants receive the assistance they need to successfully respond to the final rule.

Additional Public Notification

Public awareness of all segments of rulemaking and policy development is important. Consequently, in an effort to better ensure that minorities, women, and persons with disabilities are aware of this notice, FSIS will announce it and make copies of this Federal Register publication available through the FSIS Constituent Update. FSIS provides a weekly Constituent Update, which is communicated via Listserv, a free e-mail subscription service. In addition, the update is available on-line through the FSIS Web page located at http://www.fsis.usda.gov. The update is used to provide information regarding FSIS policies, procedures, regulations, Federal Register notices, FSIS public meetings, recalls, and any other types of information that could affect or would be of interest to our constituents/stakeholders. The constituent Listserv consists of industry, trade, and farm groups, consumer interest groups, allied health professionals, scientific professionals, and other individuals that have requested to be included. Through the Listserv and Web page, FSIS is able to provide information to a much broader, more diverse audience.

For more information contact the Congressional and Public Affairs Office, at (202) 720-9113. To be added to the free e-mail subscription service (Listserv) go to the “Constituent Update” page on the FSIS Web site at http://www.fsis.usda.gov/oa/update/update.htm. Click on the “Subscribe to the Constituent Update Listserv” link, then fill out and submit the form.

Done in Washington, DC on August 18, 2003.
Garry L. McKee,
Administrator.

[FR Doc. 03-21483 Filed 8-21-03; 8:45 am]

BILLING CODE 3410-DM-P